DEPARTMENT OF DEFENSE

Department of the Army

Department of Defense (DoD) Task Force on Mental Health; Meeting

AGENCY: Department of the Army; DoD.

ACTION: Notice of Meeting Change in Venue.

SUMMARY: The DoD Task Force on Mental Health meeting on September 20, 2006 from 8:30 a.m.-5 p.m. and September 21, 2006 from 8:30 a.m.-11 a.m. published in the Federal Register on August 18, 2006 (71 FR 47782) has changed venues. The previous location was Howze Auditorium, Bldg 33009, 7500 761st Tank Battalion Ave., Fort Hood, TX 76544-5008. The new location is The Plaza Hotel, 1721 East Central Texas Expressway, Killeen, TX 7641-9144.

FOR FURTHER INFORMATION CONTACT: Colonel Roger Gibson, Executive Secretary, Armed Forces Epidemiological Board, Skyline Six, 5109 Leesburg Pike, Room 682, Falls Church, VA 22041-3258, (703) 681-8012/3.

SUPPLEMENTARY INFORMATION: None.

Brenda S. Bowen,
Army Federal Register Liaison Officer.

[FR Doc. 06-7505 Filed 9-7-06; 8:45 am]

BILLING CODE 3710-08-M